OVERSEAS PRIVATE INVESTMENT CORPORATION

Sunshine Act Meeting

OPIC's Sunshine Act notice of its Public Hearing in Conjunction with each Board meeting was published in the Federal Register (Volume 69, Number 194, Page 60196) on October 7, 2004. No requests were received to provide testimony or submit written statements for the record; therefore, OPIC's public hearing in conjunction with OPIC's November 10, 2004 Board of Directors meeting scheduled for 2 p.m. on November 4, 2004 has been cancelled.

CONTACT FOR INFORMATION: Information on the hearing cancellation may be obtained from Connie M. Downs at (202) 336-8438, via facsimile at (202) 218-0136, or via e-mail at cdown@opic.gov.

Dated: October 26, 2004.
Connie M. Downs,
OPIC Corporate Secretary.

[FR Doc. 04-24187 Filed 10-26-04; 10:55 am]

BILLING CODE 3210-01-M